DEPARTMENT OF ENERGY

[Docket No. EA-284]

Sempra Energy Solutions

AGENCY: Office of Fossil Energy, DOE.

ACTION: Notice of Application.

SUMMARY: Sempra Energy Solutions (SES) has applied for authority to transmit electric energy from the United States to Mexico pursuant to section 202(e) of the Federal Power Act.

DATES: Comments, protests or requests to intervene must be submitted on or before September 2, 2003.

ADDRESSES: Comments, protests or requests to intervene should be addressed as follows: Office of Coal & Power Im/Ex (FE-27), Office of Fossil Energy, U.S. Department of Energy, 1000 Independence Avenue, SW., Washington, DC 20585-0350 (FAX 202-287-2793).

FOR FURTHER INFORMATION CONTACT: Steven Mintz (Program Office) 202-586-9506 or Michael Skinker (Program Attorney) 202-586-6667.

SUPPLEMENTARY INFORMATION: Exports of electricity from the United States to a foreign country are regulated and require authorization under section 202(e) of the Federal Power Act (FPA) (16 U.S.C. 824a(e)).

On August 6, 2003, the Office of Fossil Energy (FE) of the Department of Energy (DOE) received an application from SES to transmit electric energy from the United States to Mexico. SES is incorporated in the State of California and has its principal place of business in San Diego, California. SES is a wholly-owned subsidiary of Sempra Energy Global Enterprises, which, in turn, is a wholly-owned subsidiary of Sempra Energy. Sempra Energy owns 100% of San Diego Gas & Electric Company(SDG&E). SES does not have a franchised utility service area. The electric energy which the applicant proposes to export to Mexico would be surplus generation from utilities and Federal power marketing agencies within the United States.

The applicant proposes to arrange for the delivery of electric energy to Mexico over the international transmission facilities owned by SDG&E. The construction, operation, maintenance, and connection of each of the international transmission facilities to be utilized by the applicant, as more fully described in the application, has previously been authorized by a Presidential permit issued pursuant to Executive Order 10485, as amended.

SES has requested an expedited notice and comment period in order to be able to respond to a solicitation to deliver electric energy to Mexico in the first week of September, 2003. DOE has granted the request and shortened the public comment period to 14 days.

Procedural Matters: Any person desiring to become a party to this proceeding or to be heard by filing comments or protests to this application should file a petition to intervene, comment or protest at the address provided above in accordance with sections 385.211 or 385.214 of the FERC's Rules of Practice and Procedures (18 CFR 385.211, 385.214). Fifteen copies of each petition and protest should be filed with the DOE on or before the date listed above.

Comments on the SES application to export electric energy to Mexico should be clearly marked with Docket EA-284. Additional copies are to be filed directly with Kelly Morton, Esq., Sempra Energy, 101 Ash Street, HQ13D, San Diego, CA 92101.

A final decision will be made on this application after the environmental impacts have been evaluated pursuant to the National Environmental Policy Act of 1969 (NEPA), and a determination is made by the DOE that the proposed action will not adversely impact on the reliability of the U.S. electric power supply system.

Copies of this application will be made available, upon request, for public inspection and copying at the address provided above or by accessing the Fossil Energy Home Page at http://www.fe.doe.gov. Upon reaching the Fossil Energy Home page, select “Regulatory Programs,” then “Electricity Regulation,” and then “Pending Proceedings” from the options menus.

Issued in Washington, DC, on August 13, 2003.
Anthony J. Como,
Deputy Director, Electric Power Regulation, Office of Coal & Power Im/Ex, Office of Coal & Power Systems, Office of Fossil Energy.

[FR Doc. 03-21173 Filed 8-18-03; 8:45 am]

BILLING CODE 6450-01-P